DEPARTMENT OF COMMERCE

National Oceanic and Atmospheric Administration

RIN 0648-XF391

New England Fishery Management Council; Public Meeting; Correction

AGENCY: National Marine Fisheries Service (NMFS), National Oceanic and Atmospheric Administration (NOAA), Commerce.

ACTION: Notice of a correction of a public meeting.

SUMMARY: The New England Fishery Management Council (Council) is scheduling a public meeting of its Groundfish Advisory Panel to consider actions affecting New England fisheries in the exclusive economic zone (EEZ). Recommendations from this group will be brought to the full Council for formal consideration and action, if appropriate.

DATES: This meeting will be held on Wednesday, May 24, 2017 at 9 a.m.

ADDRESSES: The meeting will be held at the Sheraton Harborside, 250 Market Street, Portsmouth, NH 03801; phone: (603) 431-2300.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The original notice published in the Federal Register on May 8, 2017 (82 FR 21372). An additional agenda item has been added to the original agenda. The entire new agenda is listed below. All other previously published information remains the same.

Agenda

The Advisory Panel will discuss Amendment 23/Groundfish Monitoring. They will receive a report from the Groundfish Plan Development Team (PDT), review public scoping comments and Discuss and make recommendations to the Groundfish Committee on the scope, purpose and need, and range of alternatives for Amendment 23. The Panel will also review 2017 Council Priorities with a discussion of Atlantic halibut management, receive a report from the PDT and make recommendations to the Groundfish Committee. They will also discuss a possible reclassification of windowpane flounder stocks with a report from the PDT and make recommendations to the Groundfish Committee. The advisory panel will consider comments on the Interim Final Rule for 2017 and 2018 Sector Operations Plans, including whether additional measures or restrictions should be recommended for Sector IX as a result of misreporting by sector vessels. Other business will be discussed as necessary.

Authority: 16 U.S.C. 1801 et seq.

Dated: May 17, 2017.
Tracey L. Thompson,
Acting Deputy Director, Office of Sustainable Fisheries, National Marine Fisheries Service.

[FR Doc. 2017-10328 Filed 5-19-17; 8:45 am]

BILLING CODE 3510-22-P